INTERNATIONAL TRADE COMMISSION

Request for Comments Concerning the Institution of a Section 751(b) Review Investigation; Certain Orange Juice From Brazil

AGENCY: United States International Trade Commission.

ACTION: Request for comments regarding the institution of a section 751(b) review investigation concerning the Commission's affirmative determination in investigation No. 731-TA-1089 (Final), Certain Orange Juice from Brazil.

SUMMARY: The Commission invites comments from the public on whether changed circumstances exist sufficient to warrant the institution of an investigation pursuant to section 751(b) of the Tariff Act of 1930 (19 U.S.C. 1675(b)) (the Act) to review the Commission's affirmative determination in investigation No. 731-TA-1089 (Final). The purpose of the proposed review investigation is to determine whether revocation of the existing antidumping duty order on imports of certain orange juice from Brazil is likely to lead to continuation or recurrence of material injury. See 19 U.S.C. 1675(b)(2)(A). Certain orange juice is provided for in subheadings 2009.11.00, 2009.12.25, and 2009.19.00 of the Harmonized Tariff Schedule of the United States.

DATES: Effective Date: July 19, 2007.

FOR FURTHER INFORMATION CONTACT: Diane Mazur (202-205-3184), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for this matter may be viewed on the Commission's electronic docket (EDIS) at http://edis.usitc.gov.

SUPPLEMENTARY INFORMATION: Background. On January 13, 2006, the Department of Commerce determined that imports of certain orange juice from Brazil were being sold in the United States at less than fair value (LTFV) within the meaning of section 731 of the Act (19 U.S.C. 1673) (71 FR 2183, January 13, 2006); and on March 3, 2006 the Commission determined, pursuant to section 735(b)(1) of the Act (19 U.S.C. 1673d(b)(1)), that an industry in the United States was materially injured by reason of imports of such LTFV merchandise. Accordingly, Commerce ordered that antidumping duties be imposed on such imports (71 FR 12183, March 9, 2006).

On June 13, 2007, the Commission received a request to review its affirmative determination in investigation No. 731-TA-1089 (Final) pursuant to section 751(b) of the Act (19 U.S.C. 1675(b)). The request was filed by Tropicana Products, Inc. (Tropicana). Tropicana alleges that there is good cause for the Commission to conduct a review despite the statutory prohibition against conducting a review within two years of the publication of its injury determination (19 U.S.C. 1675(b)(4)). Tropicana alleges that shortfalls in the Florida juice orange crop and depleted inventories; significant price increases and a greatly constricted supply; and disruption of the alternative sources of Brazilian supply following imposition of the antidumping duty order have resulted in the domestic orange juice producers being harmed by the order.

Written comments requested. Pursuant to section 207.45(b) of the Commission's Rules of Practice and Procedure, the Commission requests comments concerning whether the alleged changed circumstances, brought about by shortfalls in the Florida juice orange crop and depleted inventories; significant price increases and a greatly constricted supply; and disruption of the alternative sources of Brazilian supply following imposition of the antidumping duty order are sufficient to warrant institution of a review investigation.

Written submissions. Comments must be filed with the Secretary to the Commission no later than 60 days after the date of publication of this notice in the Federal Register. All written submissions must conform with the provisions of section 201.8 of the Commission's rules; any submissions that contain business proprietary information must also conform with the requirements of sections 201.6, 207.3, and 207.7 of the Commission's rules. The Commission's rules do not authorize filing of submissions with the Secretary by facsimile or electronic means, except to the extent permitted by section 201.8 of the Commission's rules, as amended, 67 FR 68036 (November 8, 2002).

Authority: This notice is published pursuant to section 207.45 of the Commission's rules.

Issued: July 20, 2007.
By order of the Commission.
William R. Bishop,
Acting Secretary to the Commission.

[FR Doc. E7-14346 Filed 7-24-07; 8:45 am]

BILLING CODE 7020-02-P